DEPARTMENT OF TRANSPORTATION

Surface Transportation Board

[Docket No. AB 1011 (Sub-No. 1X)]

Northern Lines Railway, LLC—Discontinuance of Service Exemption—in Stearns County, MN

On March 3, 2011, Northern Lines Railway, LLC (NLR) filed with the Board a petition under 49 U.S.C. 10502 for exemption from the provisions of 49 U.S.C. 10903 to discontinue service over approximately 7.05 miles of rail line owned by BNSF Railway Company (BNSF) located between milepost 9.16 at Rockville and milepost 16.21 at Cold Spring, in Stearns County, Minn. (the Line).¹ The Line traverses U.S. Postal Service Zip Codes 56369 and 56320 and includes the station of Cold Spring.²

¹ In 2005, NLR was authorized to lease and operate the Line along with other lines. N. Lines Ry.—Lease and Operation Exemption—Burlington N. and Santa Fe Ry., FD 34627 (STB served Jan. 6, 2005).

² This proceeding is related to a petition for exemption filed in BNSF Railway Company—Abandonment Exemption—in Stearns County, Minn., AB 6 (Sub-No. 472X). There, pursuant to 49 U.S.C. 10502(b), the Board served and published a notice in the Federal Register on February 18, 2011 (76 FR 9,634), instituting a proceeding in which BNSF is seeking an exemption to abandon the Line.

NLR states that it has been advised by BNSF that the Line does not contain any federally granted rights-of-way. Any documentation in NLR's possession will be made available promptly to those requesting it.

The interest of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by June 21, 2011.

Any offer of financial assistance (OFA) under 49 CFR 1152.27(b)(2) to subsidize continued rail service will be due no later than 10 days after service of a decision granting the petition for exemption. Each offer must be accompanied by a $1,500 filing fee. See 49 CFR 1002.2(f)(25).³

³ Because this is a discontinuance proceeding and not an abandonment, trail use/rail banking and public use conditions are not appropriate. Similarly, no environmental or historic documentation is required under 49 CFR 1105.6(c)(2) and 1105.8.

All filings in response to this notice must refer to Docket No. AB 1011 (Sub-No. 1X) and must be sent to: (1) Surface Transportation Board, 395 E Street, SW., Washington, DC 20423-0001, and (2) Karl Morell, Ball Janik LLP, 1455 F Street, NW., Suite 225, Washington, DC 20005. Replies to the petition are due on or before April 12, 2011.

Persons seeking further information concerning discontinuance procedures may contact the Board's Office of Public Assistance, Governmental Affairs, and Compliance at (202) 245-0238 or refer to the full abandonment and discontinuance regulations at 49 CFR part 1152. Questions concerning environmental issues may be directed to the Board's Office of Environmental Analysis (OEA) at (202) 245-0305. Assistance for the hearing impaired is available through the Federal Information Relay Service (FIRS) at 1-800-877-8339.

Board decisions and notices are available on our Web site at http://www.stb.dot.gov.

Decided: March 16, 2011.
By the Board, Rachel D. Campbell, Director, Office of Proceedings.
Jeffrey Herzig,
Clearance Clerk.

[FR Doc. 2011-6666 Filed 3-22-11; 8:45 am]

BILLING CODE 4915-01-P